DEPARTMENT OF COMMERCE

International Trade Administration

Cancellation of a Meeting of the Civil Nuclear Trade Advisory Committee

AGENCY: International Trade Administration, U.S. Department of Commerce.

ACTION: Notice of Cancellation of a Partially Closed Federal Advisory Committee Meeting.

SUMMARY: This notice cancels the April 23, 2020 partially closed meeting of the Civil Nuclear Trade Advisory Committee (CINTAC).

FOR FURTHER INFORMATION CONTACT: Mr. Jonathan Chesebro, Office of Energy & Environmental Industries, International Trade Administration, Room 28018, 1401 Constitution Ave. NW, Washington, DC 20230. (Phone: 202-482-1297; Fax: 202-482-5665; email: jonathan.chesebro@trade.gov).

SUPPLEMENTARY INFORMATION: Background: The CINTAC was established under the discretionary authority of the Secretary of Commerce and in accordance with the Federal Advisory Committee Act (5 U.S.C. App.), in response to an identified need for consensus advice from U.S. industry to the U.S. Government regarding the development and administration of programs to expand United States exports of civil nuclear goods and services in accordance with applicable U.S. laws and regulations, including advice on how U.S. civil nuclear goods and services export policies, programs, and activities will affect the U.S. civil nuclear industry's competitiveness and ability to participate in the international market.

The Department of Commerce renewed the CINTAC charter on August 10, 2018. This meeting is being convened under the sixth charter of the CINTAC.

The Federal Register Notice for the April 23, 2020 CINTAC meeting was published on April 14, 2020 and is available at https://www.federalregister.gov/documents/2020/04/14/2020-07796/meeting-of-the-civil-nuclear-trade-advisory-committee.

Dated: April 15, 2020.
Man Cho,
Deputy Director, Office of Energy and Environmental Industries.

[FR Doc. 2020-08432 Filed 4-20-20; 8:45 am]

BILLING CODE 3510-DR-P